DEPARTMENT OF ENERGY

Federal Energy Regulatory Commission

[Docket Nos. CP07-74-000, CP07-75-000, CP07-76-000, CP07-77-000]

Sonora Pipeline, LLC; Notice of Applications

February 15, 2007.

Take notice that on January 31, 2007, Sonora Pipeline, LLC (Sonora), 1862 West Bitters, Bldg. #1, San Antonio, Texas 78248, filed an application in Docket No. CP07-75-000 pursuant to section 3 of the Natural Gas Act (NGA) and Part 153 of the Commission's regulations requesting issuance of an order and a Presidential Permit authorizing Sonora to site, construct, operate, and maintain two bidirectional border crossing facilities in Hidalgo County, Texas.

Also take notice that on January 31, 2007, Sonora filed pursuant to Section 7(c) of the NGA and the Commission's regulations: (1) An application in Docket No. CP07-74-000 for a certificate of public convenience and necessity authorizing the construction and operation of 20.2 miles of 30-inch pipeline, the Mission Line, and 8.7 miles of 30-inch pipeline, the Progresso Line, which will extend from the two proposed border crossing facilities; (2) an application in Docket No. CP07-76-000 for a blanket construction certificate under Part 157, Subpart F of the Commission's regulations; and (3) an application in Docket No. CP07-77-000 for a blanket transportation certificate under Part 284 Subpart G of the Commission's regulations.

Take further notice that certain additional information is required, and Commission staff has identified this information to the applicant. To the extent that such information is not filed with the Secretary by February 20, 2007, Sonora's application is subject to rejection pursuant to 18 CFR 157.8 (c).

These filings are available for review at the Commission's Washington, DC offices or may be viewed on the Commission's Web site at http://www.ferc.gov the “e-Library” link. Enter the docket number, excluding the last three digits, in the docket number field to access the document. For assistance, please contact FERC Online Support at FERCOnlinesupport@ferc.gov or Telephone: 202-502-6652; Toll-free: 1-866-208-3676; or for TTY, contact (202) 502-8659.

Any questions regarding these applications should be directed to James B. Smith, Sonora Pipeline, LLC, 1862 West Bitters, Bldg. #1, San Antonio, Texas 78248, or phone at (210)764-8642.

On June 6, 2005, the Commission staff granted Sonora's request to utilize the Pre-Filing Process and assigned Docket No. PF05-15-000 to staff activities involving Sonora's project. Now, as of the filing of Sonora's applications on January 31, 2007, the Pre-Filing Process for this project has officially concluded. And while the PF Docket Number is now closed, all of the information contained in the Pre-Filing Process will become part of the proceeding. From this time forward, Sonora's proceeding will be conducted in Docket Nos. CP07-74-000, CP07-75-000, CP07-76-000, and CP07-77-000 as noted in the caption of this Notice. All future correspondence should refer to these CP docket numbers only.

Pursuant to Section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this Project. First, any person wishing to obtain legal status by becoming a party to the proceeding for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this project and/or associated pipeline. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see 18 CFR 285.2001(a)(1)(iii) and the instructions on the Commission's Web site under the “e-filing” link. The Commission strongly encourages electronic filings.

Comment Date: March 8, 2007.

Magalie R. Salas,
Secretary.

[FR Doc. E7-3191 Filed 2-23-07; 8:45 am]

BILLING CODE 6717-01-P